DEPARTMENT OF VETERANS AFFAIRS

[OMB Control No. 2900-0673]

Agency Information Collection (One-VA Identification Verification Card) Activities Under OMB Review

AGENCY: Office of Operations, Security, and Preparedness, Department of Veterans Affairs.

ACTION: Notice.

SUMMARY: In compliance with the Paperwork Reduction Act (PRA) of 1995 (44 U.S.C. 3501-3521), this notice announces that The Office of Operations, Security, and Preparedness, Department of Veterans Affairs, will submit the collection of information abstracted below to the Office of Management and Budget (OMB) for review and comment. The PRA submission describes the nature of the information collection and its expected cost and burden; it includes the actual data collection instrument.

DATE: Comments must be submitted on or before July 13, 2009.

ADDRESSES: Submit written comments on the collection of information through http://www.Regulations.gov or to VA's OMB Desk Officer, Office of Information and Regulatory Affairs, New Executive Office Building, Room 10235, Washington, DC 20503, (202) 395-7316. Please refer to “OMB Control No. 2900-0673” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0673.”

SUPPLEMENTARY INFORMATION:

Title: Request for One-VA Identification Card, VA Form 0711.

OMB Control Number: 2900-0673.

Type of Review: Extension of a currently approved collection.

Abstract: VA Form 0711 is used to collect pertinent information from employees, applicants seeking employment with VA, contractors, and affiliates prior to issuing a Department identification credential. VA uses the data collected to personalize, print, and issue a personal identify verification card.

An agency may not conduct or sponsor, and a person is not required to respond to a collection of information unless it displays a currently valid OMB control number. The Federal Register notice with a 60-day comment period soliciting comments on this collection of information was published on March 30, 2009, at pages 14191-14192.

Affected Public: Federal government, individuals or households, and business or other for-profits.

Estimated Annual Burden: 8,333 hours.

Estimated Average Burden per Respondent: 5 minutes.

Frequency of Response: On occasion.

Estimated Number of Respondents: 100,000.

Dated: June 8, 2009.
By direction of the Secretary.
Denise McLamb,
Program Analyst, Enterprise Records Service.

[FR Doc. E9-13783 Filed 6-11-09; 8:45 am]

BILLING CODE 8320-01-P